DEPARTMENT OF THE TREASURY

Internal Revenue Service

26 CFR Part 300

[REG-145154-05]

RIN 1545-BF68

User Fees Relating to Enrollment; Correction

AGENCY: Internal Revenue Service (IRS), Treasury.

ACTION: Proposed rule; correction.

SUMMARY: This document contains a correction to a notice of proposed rulemaking (REG-145154-05) that was published in the Federal Register on Tuesday, August 29, 2006 (71 FR 51179) relating to user fees for the special enrollment examination to become an enrolled agent, the application for enrollment of enrolled agents, and the renewal of this enrollment.

FOR FURTHER INFORMATION CONTACT: Matthew Cooper (202) 622-4940 (not a toll-free number).

SUPPLEMENTARY INFORMATION:

Background

The correcting amendment that is the subject of this document is under section 9701 of Title 31 of the United States Code.

Need for Correction

As published, the notice of proposed rulemaking (REG-145154-05) contains an error that may prove to be misleading and is in need of clarification.

List of Subjects in 26 CFR Part 300

Reporting and recordkeeping requirements, User fees.

Correction of Publication

In proposed rule FR Doc. 06-7246, beginning on page 51179 in the issue of August 29, 2006, make the following correction:

§ 300.6 [Corrected]

On page 51181, in the center column, revise the second heading for “§ 300.5 Renewal of enrollment of enrolled agent fee.” to read “§ 300.6 Renewal of enrollment of enrolled agent fee.”

Guy R. Traynor,
Chief, Publications and Regulations Branch, Legal Processing Division, Associate Chief Counsel (Procedure and Administration).

[FR Doc. E6-15121 Filed 9-12-06; 8:45 am]

BILLING CODE 4830-01-P